DEPARTMENT OF DEFENSE

Department of the Navy

Notice of Availability of the Record of Decision (ROD) for the Environmental Impact Statement for Multiple Projects in Support of Marine Barracks Washington, DC

AGENCY: Department of the Navy (DoN), U.S. Marine Corps, DOD.

ACTION: Notice of availability.

SUMMARY: The Department of the Navy (DoN) announces the availability of the Record of Decision (ROD) for the Environmental Impact Statement for Multiple Projects in Support of Marine Barracks Washington, DC. The Principal Deputy Assistant Secretary of the Navy (Energy, Installations and Environment) signed the ROD on January 24, 2018.

ADDRESSES: Copies of the ROD along with the Final EIS and other supporting documents are available for public viewing on the DoN's project website at www.mbweis.com, and at the Southeast Public Library, Southwest Public Library, and Northeast Public Library.

FOR FURTHER INFORMATION CONTACT: MBW EIS Project Manager: Ms. Julie Darsie, 1314 Harwood Street SE, Building 212, Washington Navy Yard, DC 20374-5018, 202-685-1754.

SUPPLEMENTARY INFORMATION: Pursuant to Section 102(2)(c) of the National Environmental Policy Act of 1969, 42 United States Code (U.S.C.) 4321-4370h, as implemented by the Council on Environmental Quality (CEQ) Regulations at 40 Code of Federal Regulations (CFR) parts 1500-1508; DoN NEPA regulations (32 CFR part 775); and Marine Corps Order P5090.2A, Change 3, Marine Corps Environmental Compliance and Protection Manual (Marine Corps Order P5090.2A, Change 3), the DON, after carefully considering the environmental consequences of the proposed action and alternatives analyzed in a November 2017 Final EIS, announces its decision to implement repair, renovation, and construction projects at Marine Barracks Washington (MBW), District of Columbia (DC). The DON has selected the Preferred Alternative (Alternative 5—Site E) from the Final EIS, which provides for the construction of a replacement BEQ Complex at the MBW Annex site totaling approximately 191,405 square feet (SF) and ranging in height from 7-10 stories depending on the massing option chosen during the design phase. Alternative 5 also includes renovation and improvement projects to Building 7 at the Main Post; improvements to the MBW Annex gate at 7th and K Streets; and improvements to building facades, fencing, infrastructure, pedestrian amenities, and landscaping throughout the installation.

The DoN ROD documents why the DoN has chosen to implement the Preferred Alternative as described in the 2017 Final EIS. This decision adopts all of the measures identified in the Final EIS and the Programmatic Agreement (PA) to avoid or minimize potential adverse cultural resources impacts from the Preferred Alternative. The ROD also includes descriptions and discussions of the anticipated environmental impacts of the Proposed Action.

Authority: 35 U.S.C. 207; 37 CFR part 404.

Dated: January 25, 2018.
E.K. Baldini,
Lieutenant Commander, Judge Advocate General's Corps, U.S. Navy, Federal Register Liaison Officer.

[FR Doc. 2018-02090 Filed 2-1-18; 8:45 am]

BILLING CODE 3810-FF-P